DEPARTMENT OF COMMERCE

National Oceanic and Atmospheric Administration

Agency Information Collection Activities; Submission to the Office of Management and Budget (OMB) for Review and Approval; Comment Request; National Marine Sanctuary Permits

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 19, 2021 (86 FR 10249) during a 60-day comment period. This notice allows for an additional 30 days for public comments.

Agency: National Oceanic & Atmospheric Administration (NOAA), Commerce.

Title: National Marine Sanctuary Permits.

OMB Control Number: 0648-0141.

Form Number(s): None.

Type of Request: Regular submission (revision and extension of a current information collection).

Number of Respondents: 424.

Average Hours per Response: General permits and authorizations, 1 hour and 30 minutes; special use permits, 8 hours; archaeological research permits, 13 hours; baitfish permits, 40 minutes; permit amendments and certifications, 30 minutes; voluntary registrations, 15 minutes; appeals, 24 hours; Tortugas access permits, 15 minutes.

Total Annual Burden Hours: 2149.25.

Needs and Uses: This request is for revision and extension of a currently approved information collection by the Office of National Marine Sanctuaries (ONMS). ONMS manages national marine sanctuaries pursuant to the purposes and policies of the National Marine Sanctuaries Act (NMSA, 16 U.S.C. 1431 et seq.).

National marine sanctuary regulations at 15 CFR part 922 list specific activities that are prohibited in national marine sanctuaries. These regulations also state that otherwise prohibited activities may be conducted if a permit is issued by ONMS. For most types of permits, persons desiring a permit must submit an application, and anyone obtaining a permit is generally required to submit one or more reports on the activity allowed under the permit. The recordkeeping and reporting requirements at 15 CFR part 922 form the basis for this collection of information.

This information is required by ONMS to protect and manage sanctuary resources. The permit application collects information about the proposed activities, the methods proposed to be used, the potential effects to sanctuary resources, and information on the regulatory review criteria at 15 CFR part 922. ONMS uses this information to evaluate whether the proposed activities are consistent with the purposes and policies of the NMSA, the purposes for which the sanctuary was designated, and the implementing regulations at 15 CFR part 922.

Changes to this information collection include revisions to the permit application and instructions to improve clarity. The estimated number of permits issued per year also changed from 555 to 424. This is based on an estimated five additional permits from the designation of the Mallows Bay— Potomac River National Marine Sanctuary (84 FR 50736; Sept. 26, 2019), five additional permits from the designation of Wisconsin Shipwreck Coast National Marine Sanctuary (WSCNMS) (86 FR 32737, June 23, 2021); the correction of a mathematical error that increased the total burden hours for baitfish permits; and a reduction of 141 permits per year because ONMS is no longer issuing lionfish removal permits in Florida Keys National Marine Sanctuary. Other revisions made to the application and applicant instructions were to improve the quality of information initially collected and to make the permit process more efficient.

Affected Public: Individuals; Business or other for-profit organizations; Not-for-profit institutions; State, Local, or Tribal government; Federal government.

Frequency: On occasion.

Respondent's Obligation: Required to Obtain or Retain Benefits.

Legal Authority: National Marine Sanctuaries Act, 16 U.S.C. 1431 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0141.

Sheleen Dumas,
Department PRA Clearance Officer, Office of the Chief Information Officer, Commerce Department.

[FR Doc. 2021-15560 Filed 7-21-21; 8:45 am]

BILLING CODE 3510-NK-P